DEPARTMENT OF JUSTICE

Antitrust Division

Notice Pursuant to the National Cooperative Research and Production Act of 1993—Joint Venture To Perform Project Entitled Versatile Onboard Traffic Embedded Roaming Sensors

Notice is hereby given that, on April 5, 2010, pursuant to Section 6(a) of the National Cooperative Research and Production Act of 1993, 15 U.S.C. 4301 et seq. (“the Act”), Joint Venture to Perform Project Entitled Versatile Onboard Traffic Embedded Roaming Sensors (“VOTERS”) has filed written notifications simultaneously with the Attorney General and the Federal Trade Commission disclosing changes in its membership. The notifications were filed for the purpose of extending the Act's provisions limiting the recovery of antitrust plaintiffs to actual damages under specified circumstances. Specifically, Trilion Quality Systems, Plymouth Meeting, PA, has been added as a party to this venture. Also, Witten Technologies, Inc., Somerville, MA, has withdrawn as a party to this venture.

No other changes have been made in either the membership or planned activity of the group research project. Membership in this group research project remains open, and VOTERS intends to file additional written notifications disclosing all changes in membership.

On February 10, 2009, VOTERS filed its original notification pursuant to Section 6(a) of the Act. The Department of Justice published a notice in the Federal Register pursuant to Section 6(b) of the Act on March 13, 2009 (74 FR 10967).

Patricia A. Brink,
Deputy Director of Operations, Antitrust Division.

[FR Doc. 2010-10460 Filed 5-6-10; 8:45 am]

BILLING CODE 4410-11-M